DEPARTMENT OF TRANSPORTATION

National Highway Traffic Safety Administration

[Docket No. NHTSA-2025-0017]

Agency Information Collection Activities; Submission to the Office of Management and Budget for Review and Approval; Request for Comment; Assessing the Fit and Comfort of Motorcycle Safety Gear

AGENCY: National Highway Traffic Safety Administration (NHTSA), Department of Transportation (DOT).

ACTION: Notice and request for public comments on a request for approval of a new information collection.

SUMMARY: In compliance with the Paperwork Reduction Act of 1995 (PRA), this notice announces that the Information Collection Request (ICR) abstracted below will be submitted to the Office of Management and Budget (OMB) for review and approval. The ICR describes the nature of the information collection and its expected burden. NHTSA is seeking approval for a new, one-time information collection from a targeted sample of 625 motorcycle riders (from 1,250 screened for potential participations) about their use and preference for motorcycle protective gear including footwear, gloves, helmets, jackets, and pants. The collection will involve recruiting motorcyclists attending motorcycle events to gather information about their perceptions of the gear in terms of comfort, usability, and protective value, and to obtain objective measures of fit. The study will allow NHTSA to assess the relationship between perceived and objectively measured fit and understand rider beliefs about the protective value of gear that influence the selection and use of protective gear. Participation will be voluntary and anonymous. A Federal Register notice with a 60-day comment period soliciting comments on the following information collection was published on January 13, 2025. NHTSA received five comments, which we address below.

DATES: Comments must be received on or before December 31, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Dr. DeReece Smither, Contracting Officer's Representative, Office of Behavioral Safety Research (NPD-310), DeReece.Smither@dot.gov, (771) 221-0558, National Highway Traffic Safety Administration, 1200 New Jersey Avenue SE, Washington, DC 20590.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

Title: Assessing the Fit and Comfort of Motorcycle Safety Gear.

OMB Control Number: New.

Form Numbers: NHTSA Forms 2000, 2001, 2002, 2003, 2004, 2005.

Type of Request: Request for approval of a new information collection.

Type of Review Requested: Regular.

Length of Approval Requested: 3 years from date of approval.

Summary of the Collection of Information:

NHTSA is seeking approval for a new, one-time information collection from a targeted sample of 625 motorcycle riders (from 1,250 screened for potential participation) about their use and preference for motorcycle protective gear. The information collection will involve recruiting motorcyclists attending motorcycle events to ask them for their perceptions about the protective gear they are wearing (including footwear, gloves, helmets, jackets, pants) and to obtain objective measures of fit. The study will allow NHTSA to assess the relationship between perceived and objectively measured fit, rider beliefs about the protective value of gear, and factors influencing the selection and use of protective gear.

Potential participants will be recruited at locations where riders gather, such as rallies, training events, and other organized social events. The study protocol calls for the recruitment of an equal number of riders of standard, cruiser, sport and adventure/touring motorcycles, and seated motor scooters. Depending on the venue, the study team will either invite riders to participate at a study tent or conduct the survey near the rider's motorcycle. Study staff will observe gear worn by riders, assess the fit of the gear, and ask riders for their opinions about the fit and comfort of the gear. Data collection will involve the use of a portable tablet for the informed consent process, and to record participant responses and staff observations. Participants will self-administer some portions of the survey, while data collectors will verbally ask the participants about their gear during the gear assessments. Anthropometric measurements (e.g., head circumference) will be taken using ribbon tape or an anthropometer as appropriate depending on the gear type being assessed.

The study plan is to assess one type of protective gear (e.g., jackets) per participant. Additionally, to obtain information on participants' perspectives of different types of protective gear, study staff will present images on a tablet of the protective gear (one gear type per participant) that ranges in quality. The images will include product descriptions, but no brand names. Participants will be asked to rate the protection afforded by the gear, its quality, and the likelihood of wearing or purchasing it.

Participation will be voluntary and anonymous. This information collection only requires participants to report their answers; there are no record-keeping costs to the participants. NHTSA will use the information to produce a technical report that will present summary statistics and tables; a de-identified data set will also be made available to the public. Participants will not report personally identifiable information. The study will allow NHTSA to better understand how the fit and comfort of protective gear influences rider choices to use or not use protective gear and provide the means to assess how well gear is fitting riders. This information will aid NHTSA in its efforts to develop successful programs to improve motorcyclist safety. The technical report will be distributed to a variety of audiences interested in improving highway safety.

Description of the Need for the Information and Proposed Use of the Information:

NHTSA's statutory mandate is to reduce deaths, injuries, and economic losses resulting from motor vehicle crashes on the Nation's highways. The agency develops, promotes, and implements educational, engineering, and enforcement programs with the goal of ending preventable tragedies and reducing economic costs associated with vehicle use and highway travel. As part of its mandate, NHTSA is authorized to conduct research to develop traffic safety programs. Title 23, United States Code, Chapter 4, Section 403 authorizes the Secretary of Transportation to conduct research and development activities. Pursuant to Section 1.95 of Title 49 of the Code of Federal Regulations (CFR), the Secretary has delegated this authority to NHTSA. Current data is essential to develop appropriate approaches to improve traffic safety. This is especially true for information on motorcyclists, where data is much more limited.

NHTSA and other traffic safety stakeholders have sought to learn about motorcycle safety issues through varied methodological approaches. In 2022, there were 6,218 motorcyclists killed in traffic crashes, comprising 15 percent of all traffic fatalities that year and representing a fatality rate per vehicle miles traveled of 26.16, nearly 22 times that of passenger car occupants (1.20).¹ These findings demonstrate the inherent risk of motorcycle riding and highlight the importance of wearing personal protective gear, especially a helmet, but including footwear, gloves, jacket, and pants. Nonetheless, not all motorcyclists use gear on every ride.

¹ National Center for Statistics and Analysis. (2024, July). Motorcycles: 2022 data (Traffic Safety Facts. Report No. DOT HS 813 589). National Highway Traffic Safety Administration.

The proposed study aims to address the pressing need to understand the relationship between the fit and comfort of personal protective gear and the decision to use gear. The results will assist NHTSA in the development of programs aimed at increasing motorcycle safety by providing information on the types of gear being used, how fit and comfortable the gear is, and deterrents to using protective gear.

60-Day Notice: A Federal Register notice with a 60-day comment period soliciting public comments on the following information collection was published on January 13, 2025 (90 FR 7, pp. 2779-2781). Five comments were received during the comment period. We address these comments below.

One motorcyclist expressed concern over exclusively collecting data at motorcycle rallies, as the attendance tends to be largely uniform and suggested broadening beyond rallies “to ensure that all riders . . . can be equally protected.” The current recruitment approach does not focus only on motorcycle rallies. The recruitment plan considers recruiting potential participants from locations other than motorcycle rallies such as training events and other organized events. As such, the project scope already intends on collecting data from motorcyclists at locations other than rallies.

An anonymous commenter expressed support for this project and recommended the study explore how motorcycle protective gear has reduced injuries in motorcycle crashes. NHTSA declines to expand its study to explore crashes because it is beyond the scope of the current study.

NHTSA received three comments in support of the study. One commenter stated the study will address “one of the most used excuses” to not wear protective gear. Another commenter expressed being “so grateful for this amazing step forward for protecting our motorcyclists.” A last commenter “appreciates the initiative of NHTSA in proposing this study to gain greater insight into the decisions of motorcycle riders to use protective equipment.”

Affected Public: This study will recruit volunteers who are riders of selected types of motorcycles (standard, cruiser, sport, adventure/touring and seated motor scooter) at the data collection locations. Motorcyclists passing by the data collection locations will be recruited to voluntarily participate in an assessment of the fit of their current protective gear (if worn). They will also be asked to review images of selected protective gear and provide their opinions on the protective gears' protective capabilities, usability, and perceived quality.

Estimated Number of Respondents: Participation in this study will be voluntary and anonymous. The study expects to contact approximately 1,250 motorcyclists at the data collection locations to obtain responses from 625 motorcyclists (125 from each motorcycle type).

Frequency: This study will be a one-time data collection. Because data collection may occur at multiple events, there is a remote chance an individual could participate more than once. This is not expected, however, as potential participants will not know data collection locations or times.

Estimated Total Annual Burden Hours: The total amount of burden is estimated to be 341 hours. This includes the following estimates: (1) 313 hours for 625 motorcyclists to respond fully to the survey, based on an average completion time of 30 minutes per participant; (2) 19 hours for the estimated 75 motorcyclists who will partially participate, based on spending 15 minutes on a portion of the survey; and (3) nine hours for the estimated 550 people who are screened by study staff, but decline to participate, based on one minute per interaction (see Table 1).

Table 1—Summary of Total Burden Hours by Type of Participation
Type of participation | Number of respondents | Minutes per respondent | Total estimated burden hours *
Rider Fully Participates | 625 | 30 | 313
Form 2000—Informed Consent/Screener AND | 625 | 1 |
Form 2001 (Footwear) OR | 125 | 29 |
Form 2002 (Gloves) OR | 125 | 29 |
Form 2003 (Helmets) OR | 125 | 29 |
Form 2004 (Jackets) OR | 125 | 29 |
Form 2005 (Pants) | 125 | 29 |
Rider Does Not Fully Participate | 75 | 15 | 19
Form 2000—Informed Consent/Screener AND | 75 | 1 |
Form 2001 (Footwear) OR | 15 | 14 |
Form 2002 (Gloves) OR | 15 | 14 |
Form 2003 (Helmets) OR | 15 | 14 |
Form 2004 (Jackets) OR | 15 | 14 |
Form 2005 (Pants) | 15 | 14 |
Rider Screened but Does Not Participate | 550 | 1 | 9
Form 2000—Informed Consent/Screener ONLY | 550 | 1 |
Grand Total | 1,250 |  | 341
Note: * Rounded to the nearest hour.

Estimated Total Annual Burden Cost: The total burden cost to participants is estimated to be $14,460 with an annual burden cost of $4,820 (total divided by 3) (see Table 2). Participation in this study is voluntary and there are no costs to respondents beyond the time spent hearing about the study and participating in data collection, if they decide to participate. Participants will incur no burden related to annual reporting or record keeping due to the collection of this new information.

Table 2—Burden Estimates by NHTSA Form for the Data Collection Surveys
Information collection— NHTSA form # | Number of responses | Burden per response * (in minutes) | Burden per respondent * (in minutes) | Average hourly opportunity cost ** | Labor cost per submission | Total burden hours *** | Total opportunity costs ***
Form 2000 | 1,250 | 1 | 1 | $42.46 | $0.708 | 21 | $885
Form 2001 | 140 | 27.39 | 27.39 | 42.46 | 19.392 | 64 | 2,715
Form 2002 | 140 | 27.39 | 27.39 | 42.46 | 19.392 | 64 | 2,715
Form 2003 | 140 | 27.39 | 27.39 | 42.46 | 19.392 | 64 | 2,715
Form 2004 | 140 | 27.39 | 27.39 | 42.46 | 19.392 | 64 | 2,715
Form 2005 | 140 | 27.39 | 27.39 | 42.46 | 19.392 | 64 | 2,715
Total | 1,950 |  |  |  |  | 341 | 14,460
Notes: * Forms 2001-2005 Burden per Response/Respondent averages both the rider fully and does not fully participate as shown in Table 1.
** See May 2024 all occupations cross-industry, private, federal, state, and local government average hourly wage from the U.S. Bureau of Labor Statistics at https://data.bls.gov/oes/#/industry/000000; Average Hourly Opportunity Cost is inclusive of a 30% addition to the base hourly wage to account for fringe benefits ($42.46 = $32.66 hourly wage + $9.80 fringe).
*** Rounded up based on individual forms.

Public Comments Invited: You are asked to comment on any aspects of this information collection, including (i) whether the proposed collection of information is necessary for the proper performance of the functions of the Department, including whether the information will have practical utility; (ii) the accuracy of the Department's estimate of the burden of the proposed information collection; (iii) ways to enhance the quality, utility and clarity of the information to be collected; and (iv) ways to minimize the burden of the collection of information on respondents, including the use of automated collection techniques or other forms of information technology.

(Authority: The Paperwork Reduction Act of 1995; 44 U.S.C. Chapter 35, as amended; 49 CFR 1.49; and DOT Order 1351.29A.)

Jane Terry,
Acting Associate Administrator, Research and Program Development.

[FR Doc. 2025-21598 Filed 11-28-25; 8:45 am]

BILLING CODE 4910-59-P